DEPARTMENT OF DEFENSE

Department of the Army; Corps of Engineers

Notice of Intent To Prepare a Draft Environmental Impact Statement for the Proposed Duke Energy Carolinas, LLC, Offshore Wind Demonstration Project Within the Pamlico Sound, Dare County, NC

AGENCY: Department of the Army, U.S. Army Corps of Engineers, DoD.

ACTION: Notice of intent.

SUMMARY: The U.S. Army Corps of Engineers (USACE), Wilmington District, Regulatory Division has received a request for Department of the Army authorization, pursuant to Section 404 of the Clean Water Act and Section 10 of the Rivers and Harbors Act, from Duke Energy Carolinas, LLC, to construct up to three (3) power generating wind turbines within the Pamlico Sound and to conduct research relating to the development of future offshore wind energy projects. This project is located within a 3-mile square area located approximately 7.3 miles west of Avon and 9.1 miles north of Frisco within the Pamlico Sound, NC. In order to maximize exposure to prevailing winds, the turbines will be oriented in a northwest to southeast configuration (NW corner: Lat. 35.23.9.78 N, Long. 75.39.26.32 W/SE corner: Lat. 35.22.4.26 N, Long. 75.38.20.80 W). Construction will require barge-supported equipment to install the foundations supporting the turbines, rock aprons may be installed to protect the base of each structure, and an approximately 6-inch diameter electric cable will be buried within the bottom of Pamlico Sound for connection to an existing, land-based substation near the communities of either Avon, Buxton, Frisco, or Hatteras, NC. Power generated by this project would be supplied to the electric grid on Hatteras Island. The University of North Carolina at Chapel Hill (UNC) will conduct research on the project to evaluate water user conflicts, ecological risks, engineering obstacles, and measures to mitigate the effects of the turbines on the public.

DATES: A public scoping meeting for the Draft Environmental Impact Statement (DEIS) will be held at the Dare County Justice Center, 962 Marshall C. Collins Drive, Manteo, NC, on Thursday, March 18, 2010, beginning at 6 p.m. EST. Written comments will be received until April 2, 2010.

ADDRESSES: Copies of comments and questions regarding scoping of the Draft EIS may be addressed to: U.S. Army Corps of Engineers, Wilmington District, Regulatory Division, ATTN: File Number SAW 2009-01880, Post Office Box 1000, Washington, NC 27889-1000.

FOR FURTHER INFORMATION CONTACT: Questions about the proposed action and DEIS may be directed to the Regulatory Division, Mr. David Lekson, telephone (910) 251-4595; or Ms. Tracey Wheeler, telephone (910) 251-4627.

SUPPLEMENTARY INFORMATION: Duke Energy Carolinas, LLC, is an investor-owned utility that serves over 2 million customers within both North and South Carolina. Legislation was passed in NC to facilitate the development of this project and UNC completed a study on the feasibility of establishing wind turbines in NC's coastal waters, entitled Coastal Wind, Energy for North Carolina's Future, dated June 2009. The report includes a broad-scale analysis of environmental, engineering, and other issues that would likely affect wind energy development in NC's coastal waters. The analysis took into account potential conflicts with birds, bats, marine mammals, threatened and endangered species, fisheries, geology, aviation and military use, recreation, commercial fishing, cultural resources, visual resources, and other factors. These environmental considerations were combined with wind power, geology and foundation analyses, and an economic feasibility analysis to produce a map depicting areas that are most suitable for wind energy development and that hold promise for future study.

Duke Energy's stated purpose of the project is to construct and operate a demonstration wind energy facility in the coastal waters of North Carolina in order to evaluate the ecological risks, engineering obstacles, and potential mitigation measures associated with water-based wind energy development in North Carolina. If commercial-scale wind energy development is deemed to be feasible, this demonstration project will also provide research data that can be used in development of future wind power projects.

Proposed Impacts to Wetlands and Surface Waters: Issues to be addressed include, but are not limited to, potential adverse impacts to navigation, high quality tidal and non-tidal coastal wetlands, designated outstanding resource waters, endangered species, essential fish habitat, other fish and wildlife resources, military operations, commercial and recreational fishing interests, U.S. Coast Guard interests, tourism, aesthetics, and traditional and future public use of the Pamlico Sound.

Scope of Investigations: Based upon the proposed impacts to navigable waters of the United States, including wetlands, Duke Energy has been advised by the USACE that an Environmental Impact Statement (EIS) should be prepared for the proposed project. The scope of the EIS investigation will include the following: Alternatives analyses, Affected environment, Environmental consequences, Secondary and Cumulative Environmental Impacts, and Compensatory Mitigation.

Alternatives analyses: Council on Environmental Quality (CEQ) regulations (40 CFR 1502.14(a)) require an environmental impact statement (EIS) to “rigorously explore and objectively evaluate all reasonable alternatives” for a proposed action. The regulations (40 CFR 1502.14(b)) further require that substantial treatment be made of each alternative considered in detail, including the proposed action. The proposed project and a reasonable number of alternatives, including the no action alternative and constructing the wind turbines and ancillary facilities in other areas within and outside of eastern NC, will be evaluated and compared in the EIS. The factors used to compare the alternatives will be the same for each of the alternatives.

Affected environment: CEQ regulations (40 CFR 1502.15) require the EIS to describe the environment of the areas to be affected or created by the alternatives under consideration. The data and analysis shall be commensurate with the importance of the impact. Based upon preliminary evaluation of the proposed project, it appears the primary areas of environmental concern will focus on navigable waters, benthic and water-column estuarine resources, coastal wetlands and other aquatic resource functions and values including mitigation of such losses.

Environmental consequences: CEQ regulations (40 CFR 1502.16) state the EIS will include the environmental impacts of the alternatives including the proposed action, any adverse environmental effects which cannot be avoided should the proposal be implemented, the relationship between short-term uses of man's environment and the maintenance and enhancement of long-term productivity, and any irreversible or irretrievable commitments of resources which would be involved in the proposal should it be implemented. The EIS will identify and disclose the direct impacts of the proposed project and study a reasonable number of alternatives.

Secondary and cumulative environmental impacts: Cumulative impacts result from the incremental impact of the proposed action when added to past, present, and reasonably foreseeable future actions, regardless of what agency or person undertakes the action. Geographic information system data and mapping will be used to evaluate and quantify secondary and cumulative impacts of the proposed project with particular emphasis given to navigable waters, benthic and water-column estuarine resources, and wetlands.

Mitigation: CEQ regulations (40 CFR 1502.14, 1502.16, and 1508.20) require the EIS to include appropriate mitigation measures. The USACE has adopted, through the CEQ, a mitigation policy which embraces the concepts of “no net loss of wetlands” and project sequencing. The purpose of this policy is to restore and maintain the chemical, biological, and physical integrity of “Waters of the United States,” specifically wetlands. Mitigation of wetland impacts has been defined by the CEQ to include: avoidance of impacts (to wetlands), minimizing impacts, rectifying impacts, reducing impacts over time, and compensating for impacts (40 CFR 1508.20). Each of these aspects (avoidance, minimization, and compensatory mitigation) must be considered in sequential order. As part of the EIS, the applicant will develop a compensatory mitigation plan detailing the methodology and approach to compensate for unavoidable impacts to waters of the United States, including wetlands.

Based on the size, complexity, and potential impacts of the proposed project, Duke Energy has been advised by the USACE to identify and disclose the environmental impacts of the proposed project in an Environmental Impact Statement (EIS). Within the EIS, the Applicant will conduct a thorough environmental review, including an evaluation of a reasonable number of alternatives. After distribution and review of the Draft EIS and Final EIS, the Applicant understands that the USACE will issue a Record of Decision (ROD) for the project. The ROD will document the completion of the EIS process and will serve as a basis for permitting decisions by Federal and State agencies.

Jefferson M. Ryscavage,
Colonel, EN, Commanding.

[FR Doc. 2010-3494 Filed 2-22-10; 8:45 am]

BILLING CODE 3720-58-P